NATIONAL SCIENCE FOUNDATION

U.S. Chief Financial Officer Council; Grants Policy Committee (GPC)

ACTION: Notice of outreach for feedback regarding GPC's proposed response to the recommendations of the U.S. Government Accountability Office (GAO) about the timeliness of Grants.gov application submissions.

SUMMARY: This notice announces an outreach effort for feedback on topical items that impact individuals/organizations' ability to submit grant applications in a timely fashion. This outreach effort is sponsored by the GPC.

DATES: The GPC welcomes feedback on this topic from the date of this publication until January 31, 2010. Feedback received after this date will be accepted, but may not have the opportunity to inform the development of the Work Group product.

ADDRESSES: Submit electronic comments or lists of topical issues through http://www.GPC.gov by clicking on “share your feedback” on the second item in the LATEST NEWS box on the home page.

Overview: The GPC is in the early stages of developing a proposed response recommendation regarding the timeliness of Grants.gov applications and would like to gather early feedback from applicants on topical items or major issues that impact their ability to submit grant applications in a timely fashion. The purpose of this outreach effort is to provide a mechanism for the applicant community to submit issues that impact individuals/organizations' ability to submit grant applications in a timely fashion. This outreach effort is sponsored by the GPC.

Feedback Submission Information: Feedback will be accepted by clicking on “share your feedback” on the second item in the LATEST NEWS box on the home page. Information that pertains to this outreach effort is posted on http://www.GPC.gov where you may also submit topics or lists of topical issues and major challenges regarding the timely submission of grants applications on Grants.gov.

Questions: Questions should be directed to Charisse Carney-Nunes, National Science Foundation, 4201 Wilson Boulevard, Arlington, VA 22230; e-mail, ccarney@nsf.gov, but feedback will not be accepted via this address.

SUPPLEMENTARY INFORMATION: This outreach effort has been made possible by the cooperation of the National Science Foundation and the GPC. A team of the Pre-Award Work Group of the GPC has been working to propose an OMB response to one of the recommendations in the U.S. Government Accountability Office (GAO) Report, “Grants.gov Has Systemic Weaknesses That Require Attention” (GAO-09-589, July, 2009). The proposed recommendation relates to electronic submission of grant applications through Grants.gov.

Specifically, the team is working on a proposed response to the GAO recommendation regarding timeliness of applications, including:

a. Bases for what constitutes a timely application;

b. Notification to applicants regarding the timeliness of applications; and

c. Handling of late applications.

At this early stage of the policy development process the GPC is gathering applicant feedback on topical items and major issues related to the timely submission of grants applications on Grants.gov. Feedback will be accepted by clicking on “share your feedback” on the second item in the LATEST NEWS box on the home page.

Please note that this opportunity to provide feedback is not a formal request for comment and that the government will not conduct a formal review and resolution of any comments received. Rather, the GPC seeks to publicly announce the undertaking and invites informal feedback regarding a response to the GAO report.

Background: The GPC is a committee of the U.S. Chief Financial Officers (CFO) Council. The Office of Management and Budget (OMB) sponsors the GPC; its membership consists of grants policy subject matter experts from across the Federal Government. The GPC is charged with improving the management of federal financial assistance government-wide. To carry out that role, the committee recommends financial assistance policies and practices to OMB and coordinates related interagency activities. The GPC serves the public interest in collaboration with other Federal Government-wide grants initiatives.

Dated: January 4, 2010.
Charisse A. Carney-Nunes,
Senior Staff Associate of the National Science Foundation and Executive Officer of the Grants Policy Committee of the U.S. CFO Council.
Suzanne H. Plimpton,
Reports Clearance Officer, National Science Foundation.

[FR Doc. 2010-24 Filed 1-6-10; 8:45 am]

BILLING CODE 7555-01-P